DEPARTMENT OF TRANSPORTATION

National Highway Traffic Safety Administration

49 CFR Part 541

[Docket No. NHTSA-03-14452; Notice 01]

RIN 2127-AJ00

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2001 including theft rates for existing passenger motor vehicle lines manufactured in model year (MY) 2001. The theft data preliminarily indicate that the vehicle theft rate for CY/MY 2001 vehicles (3.26 thefts per thousand vehicles) increased by 12.8 percent from the theft rate for CY/MY 2000 vehicles (2.89 thefts per thousand vehicles).

Publication of these data fulfills NHTSA's statutory obligation to periodically obtain accurate and timely theft data, and publish the information for review and comment.

DATES: Comments must be submitted on or before June 16, 2003.

ADDRESSES: All comments should refer to the docket number and notice number cited in the heading of this document and be submitted, preferably with two copies to: U.S. Department of Transportation, Dockets, Room PL-401, 400 Seventh Street, SW., Washington, DC 20590. Docket hours are from 10 am to 5 pm, Monday through Friday.

FOR FURTHER INFORMATION CONTACT: Ms. Deborah Mazyck, Office of Planning and Consumer Standards, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2001, the most recent calendar year for which data are available.

In calculating the 2001 theft rates, NHTSA followed the same procedures it used in calculating the MY 2000 theft rates. (For 2000 theft data calculations, see 67 FR 53756, August 19, 2002). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources.

The 2001 theft rate for each vehicle line was calculated by dividing the number of reported thefts of MY 2001 vehicles of that line stolen during calendar year 2001, by the total number of vehicles in that line manufactured for MY 2001, as reported by manufacturers to the Environmental Protection Agency.

The preliminary 2001 theft data show an increase in the vehicle theft rate when compared to the theft rate experienced in CY/MY 2000. The preliminary theft rate for MY 2001 passenger vehicles stolen in calendar year 2001 increased to 3.26 thefts per thousand vehicles produced, an increase of 12.8 percent from the rate of 2.89 thefts per thousand vehicles experienced by MY 2000 vehicles in CY 2000. For MY 2001 vehicles, out of a total of 217 vehicle lines, 68 lines had a theft rate higher than 3.5826 per thousand vehicles, the established median theft rate for MYs 1990/1991. (See 59 FR 12400, March 16, 1994). Of the 68 vehicle lines with a theft rate higher than 3.5826, 56 are passenger car lines, 12 are multipurpose passenger vehicle lines, and none are light-duty truck lines.

In Table I, NHTSA has tentatively ranked each of the MY 2001 vehicle lines in descending order of theft rate. Public comment is sought on the accuracy of the data, including the data for the production volumes of individual vehicle lines.

Comments must not exceed 15 pages in length (49 CFR part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Authority: 49 U.S.C. 33101, 33102 and 33104; delegation of authority at 49 CFR 1.50.

Preliminary Report of Theft Rates for 2001 Model Year Passenger Motor Vehicles Stolen in Calendar Year 2001
| Manufacturer | Make/model (line) | Thefts 2001 | Production (Mfr's) 2001 | 2001 Theft rate (per 1000 vehicles produced)
1 | DAIMLERCHRYSLER | CHRYSLER TOWN & COUNTRY MPV | 248 | 10,792 | 22.9800
2 | DAIMLERCHRYSLER | DODGE INTREPID | 1,442 | 113,333 | 12.7236
3 | GENERAL MOTORS | CHEVROLET METRO | 199 | 15,999 | 12.4383
4 | HONDA | ACURA INTEGRA | 148 | 14,092 | 10.5024
5 | DAIMLERCHRYSLER | PLYMOUTH NEON | 400 | 38,651 | 10.3490
6 | DAIMLERCHRYSLER | DODGE NEON | 1,047 | 101,410 | 10.3244
7 | DAIMLERCHRYSLER | DODGE STRATUS | 1,115 | 109,015 | 10.2280
8 | MITSUBISHI | MIRAGE | 447 | 48,393 | 9.2369
9 | SUZUKI | ESTEEM | 152 | 18,713 | 8.1227
10 | DAIMLERCHRYSLER | CHRYSLER LHS | 86 | 11,413 | 7.5353
11 | GENERAL MOTORS | PONTIAC FIREBIRD/TRANS AM/FORMULA | 149 | 20,084 | 7.4188
12 | MITSUBISHI | GALANT | 729 | 102,990 | 7.0784
13 | GENERAL MOTORS | CHEVROLET CAMARO | 193 | 28,278 | 6.8251
14 | MITSUBISHI | MONTERO | 258 | 38,599 | 6.6841
15 | GENERAL MOTORS | PONTIAC GRAND AM | 1,192 | 182,220 | 6.5415
16 | GENERAL MOTORS | BUICK REGAL | 340 | 52,492 | 6.4772
17 | MITSUBISHI | MONTERO SPORT | 402 | 64,115 | 6.2700
18 | JAGUAR | S-TYPE | 126 | 20,102 | 6.2680
19 | FORD MOTOR CO | FORD ESCORT | 536 | 87,019 | 6.1596
20 | FORD MOTOR CO | LINCOLN LS | 256 | 41,817 | 6.1219
21 | DAIMLERCHRYSLER | CHRYSLER 300M | 228 | 37,284 | 6.1152
22 | GENERAL MOTORS | PONTIAC SUNFIRE | 445 | 73,808 | 6.0292
23 | HONDA | ACURA NSX | 1 | 167 | 5.9880
24 | MITSUBISHI | DIAMANTE | 77 | 13,667 | 5.6340
25 | FORD MOTOR CO | FORD MUSTANG | 869 | 155,039 | 5.6050
26 | DAIMLERCHRYSLER | CHRYSLER SEBRING | 407 | 73,543 | 5.5342
27 | KIA MOTORS | OPTIMA | 134 | 24,754 | 5.4133
28 | DAIMLERCHRYSLER | CHRYSLER CONCORDE | 147 | 28,030 | 5.2444
29 | GENERAL MOTORS | CHEVROLET CAVALIER | 1,136 | 217,438 | 5.2245
30 | SUZUKI | VITARA/GRAND | 281 | 53,810 | 5.2221
31 | TOYOTA | COROLLA | 1,201 | 230,246 | 5.2162
32 | NISSAN | ALTIMA | 706 | 137,253 | 5.1438
33 | GENERAL MOTORS | CHEVROLET MALIBU | 956 | 186,788 | 5.1181
34 | DAIMLERCHRYSLER | CHRYSLER SEBRING CONVERTIBLE | 200 | 39,668 | 5.0418
35 | TOYOTA | LEXUS IS | 155 | 30,959 | 5.0066
36 | GENERAL MOTORS | CHEVROLET LUMINA | 213 | 42,803 | 4.9763
37 | GENERAL MOTORS | OLDSMOBILE ALERO | 548 | 112,455 | 4.8731
38 | GENERAL MOTORS | CADILLAC DEVILLE | 428 | 87,909 | 4.8687
39 | ISUZU | TROOPER | 91 | 18,818 | 4.8358
40 | KIA MOTORS | RIO | 276 | 57,340 | 4.8134
41 | MITSUBISHI | ECLIPSE | 380 | 79,034 | 4.8081
42 | MAZDA | MILLENIA | 85 | 17,969 | 4.7304
43 | GENERAL MOTORS | CHEVROLET MONTE CARLO | 324 | 68,518 | 4.7287
44 | AUDI | S4/QUATTRO | 72 | 15,301 | 4.7056
45 | TOYOTA | 4RUNNER | 373 | 83,052 | 4.4912
46 | GENERAL MOTORS | GMC JIMMY S15/T15 | 209 | 46,905 | 4.4558
47 | DAIMLERCHRYSLER | CHRYSLER NEON ¹ | 3 | 682 | 4.3988
48 | NISSAN | MAXIMA | 447 | 102,260 | 4.3712
49 | HYUNDAI | SONATA | 204 | 46,989 | 4.3414
50 | ROLLS-ROYCE | BENTLEY ARNAGE | 2 | 466 | 4.2918
51 | GENERAL MOTORS | OLDSMOBILE INTRIGUE | 168 | 39,491 | 4.2541
52 | JAGUAR | XK8 | 19 | 4,501 | 4.2213
53 | GENERAL MOTORS | CHEVROLET PRIZM | 209 | 50,141 | 4.1682
54 | DAIMLERCHRYSLER | JEEP CHEROKEE/GRAND | 1,376 | 338,673 | 4.0629
55 | HONDA | PRELUDE | 46 | 11,329 | 4.0604
56 | GENERAL MOTORS | OLDSMOBILE BRAVADA | 44 | 10,935 | 4.0238
57 | GENERAL MOTORS | PONTIAC BONNEVILLE | 175 | 43,842 | 3.9916
58 | KIA MOTORS | SEPHIA/SPECTRA | 296 | 74,516 | 3.9723
59 | GENERAL MOTORS | PONTIAC GRAND PRIX | 466 | 117,647 | 3.9610
60 | MERCEDES-BENZ | 129 (SL-CLASS) | 16 | 4,080 | 3.9216
61 | ISUZU | RODEO | 242 | 62,963 | 3.8435
62 | GENERAL MOTORS | CHEVROLET BLAZER S10/T10 | 629 | 163,771 | 3.8407
63 | GENERAL MOTORS | CHEVROLET CORVETTE | 124 | 33,204 | 3.7345
64 | KIA MOTORS | SPORTAGE | 215 | 57,927 | 3.7116
65 | FORD MOTOR CO | LINCOLN TOWN CAR | 255 | 68,832 | 3.7047
66 | FORD MOTOR CO | MERCURY SABLE | 364 | 98,867 | 3.6817
67 | DAEWOO | LEGANZA | 73 | 20,112 | 3.6297
68 | FORD MOTOR CO | FORD FOCUS | 964 | 267,470 | 3.6041
69 | TOYOTA | CELICA | 126 | 35,540 | 3.5453
70 | FORD MOTOR CO | FORD TAURUS | 1,238 | 351,813 | 3.5189
71 | TOYOTA | LEXUS GS | 105 | 29,858 | 3.5166
72 | GENERAL MOTORS | CADILLAC SEVILLE | 88 | 25,157 | 3.4980
73 | MERCEDES-BENZ | 215 (CL-CLASS) | 11 | 3,162 | 3.4788
74 | SUZUKI | SWIFT | 15 | 4,375 | 3.4286
75 | MAZDA | 626 | 173 | 51,355 | 3.3687
76 | BMW | Z8 | 3 | 895 | 3.3520
77 | HYUNDAI | ACCENT | 256 | 77,491 | 3.3036
78 | NISSAN | INFINITI Q45 | 6 | 1,846 | 3.2503
79 | DAEWOO | LANOS | 69 | 21,626 | 3.1906
80 | TOYOTA | CAMRY | 1,123 | 353,219 | 3.1793
81 | GENERAL MOTORS | CHEVROLET IMPALA | 597 | 188,248 | 3.1713
82 | NISSAN | SENTRA | 335 | 106,549 | 3.1441
83 | FORD MOTOR CO | MERCURY MOUNTAINEER | 45 | 14,439 | 3.1166
84 | TOYOTA | LEXUS LX | 31 | 9,967 | 3.1103
85 | DAIMLERCHRYSLER | CHRYSLER PROWLER | 5 | 1,632 | 3.0637
86 | FORD MOTOR CO | FORD EXPLORER | 1,050 | 344,002 | 3.0523
87 | DAIMLERCHRYSLER | DODGE CARAVAN/GRAND | 649 | 218,302 | 2.9729
88 | JAGUAR | XJ8 | 17 | 5,960 | 2.8523
89 | HYUNDAI | TIBURON | 64 | 22,713 | 2.8178
90 | GENERAL MOTORS | OLDSMOBILE AURORA | 140 | 50,034 | 2.7981
91 | GENERAL MOTORS | SATURN LS | 222 | 79,562 | 2.7903
92 | NISSAN | FRONTIER PICKUP | 286 | 102,545 | 2.7890
93 | MERCEDES-BENZ | 220 (S-CLASS) | 85 | 31,977 | 2.6582
94 | FORD MOTOR CO | FORD RANGER PICKUP | 708 | 266,960 | 2.6521
95 | BMW | 3 | 307 | 117,873 | 2.6045
96 | DAEWOO | NUBIRA | 35 | 13,450 | 2.6022
97 | VOLVO | C70 | 14 | 5,462 | 2.5632
98 | NISSAN | INFINITI G20 | 18 | 7,087 | 2.5399
99 | JAGUAR | XKR | 4 | 1,588 | 2.5189
100 | DAIMLERCHRYSLER | JEEP WRANGLER | 163 | 66,366 | 2.4561
101 | HONDA | ACURA 3.2 CL | 94 | 38,679 | 2.4303
102 | GENERAL MOTORS | CHEVROLET ASTRO VAN | 104 | 42,909 | 2.4237
103 | GENERAL MOTORS | BUICK PARK AVENUE | 88 | 36,407 | 2.4171
104 | JAGUAR | XJR | 3 | 1,256 | 2.3885
105 | HYUNDAI | SANTA FE | 121 | 51,088 | 2.3685
106 | TOYOTA | LEXUS LS | 75 | 31,738 | 2.3631
107 | HYUNDAI | XG | 47 | 19,894 | 2.3625
108 | GENERAL MOTORS | BUICK LESABRE | 327 | 140,202 | 2.3323
109 | HONDA | S2000 | 23 | 9,945 | 2.3127
110 | MAZDA | PROTEGE | 110 | 47,754 | 2.3035
111 | HONDA | PASSPORT | 39 | 16,999 | 2.2943
112 | MERCEDES-BENZ | 208 (CLK-CLASS) | 34 | 14,940 | 2.2758
113 | GENERAL MOTORS | GMC SAFARI VAN | 33 | 14,549 | 2.2682
114 | GENERAL MOTORS | BUICK CENTURY | 285 | 126,295 | 2.2566
115 | FORD MOTOR CO | MERCURY COUGAR | 58 | 25,810 | 2.2472
116 | AUDI | TT/QUATTRO | 47 | 21,022 | 2.2358
117 | BMW | 7 | 57 | 25,548 | 2.2311
118 | DAIMLERCHRYSLER | PLYMOUTH PROWLER | 3 | 1,353 | 2.2173
119 | VOLVO | S40 | 69 | 31,145 | 2.2154
120 | JAGUAR | VANDEN PLAS | 8 | 3,617 | 2.2118
121 | GENERAL MOTORS | CHEVROLET S10/T10 PICKUP | 354 | 166,708 | 2.1235
122 | FORD MOTOR CO | FORD F150 PICKUP | 293 | 138,481 | 2.1158
123 | HONDA | ACURA 3.5 RL | 7 | 3,312 | 2.1135
124 | VOLVO | S80 | 53 | 25,203 | 2.1029
125 | SUBARU | IMPREZA | 19 | 9,205 | 2.0641
126 | TOYOTA | TACOMA PICKUP | 330 | 160,222 | 2.0596
127 | FORD MOTOR CO | MERCURY GRAND MARQUIS | 215 | 104,890 | 2.0498
128 | HYUNDAI | ELANTRA | 217 | 106,418 | 2.0391
129 | GENERAL MOTORS | GMC SONOMA PICKUP | 86 | 42,536 | 2.0218
130 | GENERAL MOTORS | SATURN SC | 94 | 46,557 | 2.0190
131 | TOYOTA | TUNDRA PICKUP | 38 | 19,191 | 1.9801
132 | TOYOTA | RAV4 | 172 | 87,108 | 1.9746
133 | GENERAL MOTORS | SATURN SL | 214 | 108,946 | 1.9643
134 | TOYOTA | ECHO | 103 | 52,694 | 1.9547
135 | NISSAN | PATHFINDER | 172 | 89,836 | 1.9146
136 | BMW | 5 | 76 | 40,591 | 1.8723
137 | PORSCHE | 911 | 20 | 10,931 | 1.8297
138 | VOLKSWAGEN | JETTA | 281 | 153,706 | 1.8282
139 | NISSAN | INFINITI I30 | 70 | 39,505 | 1.7719
140 | HONDA | CIVIC | 603 | 341,401 | 1.7663
141 | NISSAN | XTERRA | 170 | 96,255 | 1.7661
142 | HONDA | ACCORD | 665 | 379,508 | 1.7523
143 | VOLKSWAGEN | GOLF/GTI | 56 | 32,736 | 1.7107
144 | VOLVO | V40 | 7 | 4,109 | 1.7036
145 | SAAB | 9-5 | 39 | 23,016 | 1.6945
146 | MERCEDES-BENZ | ML | 68 | 40,257 | 1.6891
147 | MAZDA | B-SERIES PICKUP | 46 | 27,490 | 1.6733
148 | AUDI | A4/QUATTRO | 58 | 35,023 | 1.6561
149 | NISSAN | INFINITI QX4 | 59 | 36,778 | 1.6042
150 | DAIMLERCHRYSLER | CHRYSLER PT CRUISER | 279 | 176,326 | 1.5823
151 | GENERAL MOTORS | CADILLAC CATERA | 18 | 11,568 | 1.5560
152 | GENERAL MOTORS | PONTIAC AZTEK | 63 | 41,111 | 1.5324
153 | TOYOTA | LEXUS ES | 54 | 35,282 | 1.5305
154 | FORD MOTOR CO | FORD WINDSTAR VAN | 275 | 179,687 | 1.5304
155 | VOLVO | V70 | 25 | 16,408 | 1.5236
156 | GENERAL MOTORS | SATURN SW | 6 | 3,973 | 1.5102
157 | FORD MOTOR CO | LINCOLN CONTINENTAL | 32 | 21,341 | 1.4995
158 | ISUZU | VEHICROSS | 2 | 1,347 | 1.4848
159 | AUDI | A6/QUATTRO | 39 | 26,592 | 1.4666
160 | PORSCHE | BOXSTER | 19 | 12,979 | 1.4639
161 | DAIMLERCHRYSLER | DODGE DAKOTA PICKUP | 230 | 158,303 | 1.4529
162 | TOYOTA | MR2 SPYDER | 10 | 6,950 | 1.4388
163 | FORD MOTOR CO | FORD ESCAPE | 214 | 151,295 | 1.4145
164 | GENERAL MOTORS | PONTIAC MONTANA VAN | 71 | 50,437 | 1.4077
165 | TOYOTA | LEXUS RX | 121 | 86,206 | 1.4036
166 | MERCEDES-BENZ | 170 (SLK-CLASS) | 22 | 16,294 | 1.3502
167 | MERCEDES-BENZ | 210 (E-CLASS) | 67 | 49,628 | 1.3500
168 | HONDA | ACURA 3.2 TL | 46 | 34,860 | 1.3196
169 | GENERAL MOTORS | CHEVROLET VENTURE VAN | 110 | 85,346 | 1.2889
170 | AUDI | S8/QUATTRO | 1 | 814 | 1.2285
171 | DAIMLERCHRYSLER | DODGE VIPER | 2 | 1,643 | 1.2173
172 | NISSAN | QUEST VAN | 37 | 31,402 | 1.1783
173 | TOYOTA | SIENNA VAN | 99 | 85,794 | 1.1539
174 | VOLKSWAGEN | NEW BEETLE | 83 | 72,350 | 1.1472
175 | MERCEDES-BENZ | 203 (C-CLASS) | 36 | 32,931 | 1.0932
176 | VOLKSWAGEN | PASSAT | 90 | 82,870 | 1.0860
177 | VOLKSWAGEN | CABRIO | 16 | 15,479 | 1.0337
178 | TOYOTA | AVALON | 79 | 77,925 | 1.0138
179 | GENERAL MOTORS | CHEVROLET TRACKER | 108 | 108,204 | 0.9981
180 | GENERAL MOTORS | OLDSMOBILE SILHOUETTE VAN | 36 | 36,278 | 0.9923
181 | FORD MOTOR CO | MERCURY VILLAGER VAN | 18 | 18,169 | 0.9907
182 | VOLVO | S60 | 32 | 33,335 | 0.9600
183 | SAAB | 9-3 | 20 | 20,920 | 0.9560
184 | VOLVO | XC | 25 | 27,082 | 0.9231
185 | AUDI | A8/QUATTRO/L | 2 | 2,177 | 0.9187
186 | HONDA | CR-V | 99 | 117,003 | 0.8461
187 | VOLKSWAGEN | EUROVAN/CAMPER | 3 | 3,652 | 0.8215
188 | BMW | M/Z3 | 15 | 18,627 | 0.8053
189 | GENERAL MOTORS | CADILLAC ELDORADO | 8 | 10,289 | 0.7775
190 | MAZDA | TRIBUTE | 42 | 55,827 | 0.7523
191 | TOYOTA | HIGHLANDER | 52 | 69,706 | 0.7460
192 | SUBARU | LEGACY/OUTBACK | 73 | 98,623 | 0.7402
193 | HONDA | ACURA MDX | 30 | 41,081 | 0.7303
194 | MAZDA | MX-5 MIATA | 12 | 18,040 | 0.6652
195 | MAZDA | MPV | 23 | 36,356 | 0.6326
196 | SUBARU | FORESTER | 37 | 63,015 | 0.5872
197 | FORD MOTOR CO | FORD LTD/CROWN VICTORIA | 50 | 89,572 | 0.5582
198 | GENERAL MOTORS | SATURN LW | 5 | 9,223 | 0.5421
199 | DAIMLERCHRYSLER | CHRYSLER VOYAGER | 78 | 169,370 | 0.4605
200 | TOYOTA | PRIUS | 7 | 15,773 | 0.4438
201 | AUDI | ALLROAD/QUATTRO | 3 | 6,840 | 0.4386
202 | HONDA | ODYSSEY MINIVAN | 54 | 123,522 | 0.4372
203 | QUANTUM TECH. | CAVALIER | 1 | 2,417 | 0.4137
204 | HONDA | INSIGHT | 1 | 3,426 | 0.2919
205 | ASTON-MARTIN | DB-7/VANTAGE/COUPE/VOLANTE | 0 | 348 | 0.0000
206 | ROLLS-ROYCE | BENTLEY AZURE | 0 | 100 | 0.0000
207 | ROLLS-ROYCE | BENTLEY CONTINENTAL R | 0 | 22 | 0.0000
208 | ROLLS-ROYCE | BENTLEY CONTINENTAL T | 0 | 8 | 0.0000
209 | GENERAL MOTORS | CADILLAC FUNERAL COACH/HEARSE | 0 | 2,203 | 0.0000
210 | FERRARI | 360 | 0 | 723 | 0.0000
211 | FERRARI | 456 | 0 | 64 | 0.0000
212 | FERRARI | 550 | 0 | 290 | 0.0000
213 | LAMBORGHINI | DB132/144 DIABLO | 0 | 150 | 0.0000
214 | ROLLS-ROYCE | CORNICHE | 0 | 45 | 0.0000
215 | ROLLS-ROYCE | PARK WARD | 0 | 28 | 0.0000
216 | ROLLS-ROYCE | SILVER SERAPH | 0 | 51 | 0.0000
217 | MITSUBISHI | NATIVA ² | 0 | 1,653 | 0.0000
¹ This vehicle was manufactured under the Chrysler nameplate for sale in a U.S. Territory only (Guam, American Samoa, Puerto Rico) and the Virgin Islands (St. Thomas and St. Croix).
² This vehicle was manufactured for sale only in Puerto Rico and represents the U.S. version of the Montero Sport line.

Stephen R. Kratzke,
Associate Administrator for Rulemaking.

[FR Doc. 03-9186 Filed 4-14-03; 8:45 am]

BILLING CODE 4910-59-P